ENVIRONMENTAL PROTECTION AGENCY

40 CFR Parts 52, 62 and 70

[EPA-R07-OAR-2012-0410; FRL 990-64-Region 7]

Approval and Promulgation of Implementation Plans; Approval and Promulgation of State Air Quality Plans for Designated Facilities and Pollutants, State of Iowa; Control of Emissions From Existing Hospital/Medical/Infectious Waste Incinerator Units, Negative Declaration and 111(d) Plan Rescission; Approval and Promulgation of Operating Permits Program, State of Iowa

AGENCY: Environmental Protection Agency (EPA).

ACTION: Proposed rule.

SUMMARY: EPA is proposing to approve, through direct final rulemaking, revisions to the State of Iowa's State Implementation Plan (SIP), Title V program and Clean Air Act (CAA) section 111(d) Plan. The purpose of these revisions is to make general updates to existing state air quality rules, approve an exemption from constructing permitting for engines used in periodic pipeline testing, approve changes to State rules regarding regional haze requirements, and to approve adoption of Federal regulations including the National Ambient Air Quality Standards (NAAQS) for 2008 Ozone, 2008 Lead, and 2010 Nitrogen Dioxide. EPA is proposing approval of the SIP provisions pursuant to section 110 of the CAA.

EPA is also proposing to approve the State of Iowa's negative declaration and withdrawal of its section 111(d)/129 plan for Hospital Medical Infectious Waste Incinerators (HMIWI) units. EPA is proposing approval of these actions pursuant to section 111 of the CAA.

EPA is also proposing to approve two minor administrative changes to the Title V program, pursuant to section 500 of the CAA.

DATES: Comments on this proposed action must be received in writing by November 25, 2013.

ADDRESSES: Submit your comments, identified by Docket ID No. EPA-R07-OAR-2012-0410; by mail to Michael Jay, Environmental Protection Agency, Air Planning and Development Branch, 11201 Renner Blvd., Lenexa, KS 66219. Comments may also be submitted electronically or through hand delivery/courier by following the detailed instructions in the ADDRESSES section of the direct final rule located in the rules section of this Federal Register.

FOR FURTHER INFORMATION CONTACT: Michael Jay at (913) 551-7460, or by email at jay.michael@epa.gov.

SUPPLEMENTARY INFORMATION: In the final rules section of today's Federal Register, EPA is approving the State's revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: September 6, 2013.
Karl Brooks,
Regional Administrator, Region 7.

[FR Doc. 2013-24865 Filed 10-21-13; 8:45 am]

BILLING CODE 6560-50-P